DEPARTMENT OF THE INTERIOR

National Park Service

[NPS-SER-CALO-22427; PPSESEROC3, PPMPSASIY.YP0000]

Final Environmental Impact Statement Off-Road Vehicle Management Plan for Cape Lookout National Seashore, North Carolina

AGENCY: National Park Service, Interior.

ACTION: Notice of Availability.

SUMMARY: The National Park Service (NPS) announces the availability of the Final Environmental Impact Statement (EIS) for the Off-Road Vehicle (ORV) Management Plan (Plan), Cape Lookout National Seashore (Seashore), North Carolina.

DATES: The NPS will execute the Record of Decision (ROD) no sooner than 30 days following publication by the Environmental Protection Agency of its Notice of Availability of the Final EIS in the Federal Register.

ADDRESSES: An electronic copy of the Plan/Final EIS will be available for public review at http://parkplanning.nps.gov/calo. A limited number of hard copies will be available at Park Headquarters, 131 Charles St., Harkers Island, North Carolina 28531.

FOR FURTHER INFORMATION CONTACT: Patrick Kenney, Superintendent, Cape Lookout National Seashore,131 Charles St., Harkers Island, North Carolina 28531; phone 252-728-2250 extension 3014.

SUPPLEMENTARY INFORMATION: Pursuant to the National Environmental Policy Act of 1969, 42 U.S.C 4332(2)(C), the Plan/Final EIS evaluates the impacts of four alternatives for designation of ORV routes and resource management, as well as one alternative that would prohibit ORV use, described as follows:

Alternative A

• the no action alternative

• continues current levels of ORV use with no numerical limit

• continues species management measures from the Seashore's Interim Species Management Plan/Environmental Assessment (EA)

Alternative B

• designates specific ORV routes and areas similar to alternative A

• establishes vehicle permits with no numerical limit

• continues species management measures from the Seashore's Interim Species Management Plan/EA

• establishes seasonal night driving restrictions

• phases out high-performance sport model and two stroke all-terrain vehicles (ATVs) and utility vehicles (UTVs)

• creates an adaptive management strategy

Alternative C

• the NPS preferred alternative

• designates specific ORV routes and areas

• creates additional pedestrian-only areas

• establishes a vehicle permit program that would maintain ORV use at their highest current levels of 6200 vehicles per year

• phases out high-performance sport model and two stroke ATVs and UTVs

• continues species management measures from the Seashore's Interim Species Management Plan/EA

• establishes seasonal night driving restrictions on the beach with slightly expanded hours on the back route from 5am to 6am and 9pm to 10pm

• creates an adaptive management strategy

Alternative D

• designates specific ORV routes and areas

• creates additional pedestrian-only areas compared to alternative C

• establishes a vehicle permit program that would maintain ORV use at average current levels, based on 5500 vehicles per year, minus 8% to reflect additional closure areas

• phases out all ATVs while allowing non-sport UTVs with seasonal use restrictions

• continues species management measures from the Seashore's Interim Species Management Plan/EA while increasing some resource buffers

• establishes seasonal night driving restrictions

• creates an adaptive management strategy

Alternative E

• prohibits private, recreational ORV use

• continuation of species protection measures as appropriate

Executive Order 11644, issued in 1972 and amended by Executive Order 11989 in 1977, states that Federal agencies allowing ORV use must designate the specific areas and trails on public lands on which the use of ORVs may be permitted, and areas in which the use of ORVs may not be permitted. NPS policy requires that areas and trails that are designated for ORV use must be established based upon the protection of the resources of the public lands, promotion of the safety of all users of those lands, and minimization of conflicts among the various uses of those lands. 36 CFR 4.10 requires that “Routes and areas designated for off-road motor vehicle use shall be promulgated as special regulations.” In addition, such routes and areas may only be designated in national recreation areas, national seashores, national lakeshores and national preserves.

The Final EIS responds to, and incorporates, agency and public comments received on the Draft EIS, including comments on night driving restrictions, vehicle permit durations and numerical limits, pedestrian-only areas, species management and closures, infrastructure improvements to the back route, and consistency of closure dates. The Draft EIS was available for public review and comment for 60 days from May 23, 2014, through July 21, 2014, then extended another 60 days to September 19, 2014. During the comment period, 1,146 pieces of correspondence were received; 268 of these were form letters. In total, 2,423 comments were received. Alternative E is the environmentally preferable alternative and alternative C is the NPS preferred alternative.

Dated: November 30, 2016.
Ed Buskirk,
Associate Regional Director, Administration, Southeast Region.

[FR Doc. 2016-29426 Filed 12-7-16; 8:45 am]

BILLING CODE 4312-52-P